ENVIRONMENTAL PROTECTION AGENCY

[FRL-7129-3]

Draft Recommendations for Implementing EPA's Public Involvement Policy

AGENCY: Environmental Protection Agency.

ACTION: Notice.

SUMMARY: EPA seeks public comment on the 12-page document “Draft Recommendations for Implementing EPA's Public Involvement Policy.” The document recommends specific EPA actions to enhance adoption of the Agency's Public Involvement Policy by EPA staff and managers. EPA published its Draft 2000 Public Involvement Policy in the Federal Register in December, 2000 (65 FR 82335, Dec. 28, 2000) and is currently writing the final policy and response to comments, both of which will be released in the Spring of 2002. The recommended implementation actions include: creating a communication network and mechanisms that allow EPA staff to exchange public involvement information; creating an electronic database that includes public involvement training opportunities, case studies and other helpful resources; providing public involvement training to EPA staff and managers; developing evaluation measures and tools to measure the effectiveness of EPA's public involvement activities; and evaluating the Agency's adoption of the Public Involvement Policy over time. EPA seeks public comment on this document for 60 days following publication on EPA's web page and notice in the Federal Register. After reviewing public comments, EPA will begin implementing many of these recommended activities. The revised document will be issued along with the Final Public Involvement Policy in the Spring of 2002. The draft recommendations document and future updates will be posted on the Agency's Web site at http://www.epa.gov/stakeholders.

DATES: Comments will be accepted until March 18, 2002.

ADDRESSES: Submit comments to Patricia A. Bonner, United States Environmental Protection Agency, Office of Policy, Economics and Innovation (MC 1807), 1200 Pennsylvania Ave, NW., Washington, DC 20460, by facsimile at 202-260-4903 or by electronic mail to bonner.patricia@epa.gov or to stakeholders@epa.gov.

FOR FURTHER INFORMATION CONTACT: Patricia Bonner at 202-260-0599. To request a mailed copy, call Loretta Schumacher at 202-260-3096 or e-mail a request to stakeholders@epa.gov. The draft recommendations document and the Draft Public Involvement Policy may be viewed or downloaded from [http://www.epa.gov/stakeholders].

Thomas J. Gibson,
Associate Administrator, Office of Policy, Economics and Innovation.

[FR Doc. 02-1243 Filed 1-16-02; 8:45 am]

BILLING CODE 6560-50-P